DEPARTMENT OF HEALTH AND HUMAN SERVICES

National Institutes of Health

Center for Scientific Review; Amended Notice of Meeting

Notice is hereby given of a change in the meeting of the Sensorimotor Integration Study Section, October 01, 2013, 10:00 a.m. to October 02, 2013, 06:00 p.m., National Institutes of Health, 6701 Rockledge Drive, Bethesda, MD 20892 which was published in the Federal Register on September 05, 2013, 78 FR 172, Pgs. 54664-54665.

The meeting will start on November 25, 2013 at 10:00 a.m. and end on November 26, 2013 at 6:00 p.m.

The meeting location remains the same. The meeting is closed to the public.

Dated: October 25, 2013.
Anna Snouffer,
Deputy Director, Office of Federal Advisory Committee Policy.

[FR Doc. 2013-25898 Filed 10-30-13; 8:45 am]

BILLING CODE 4140-01-P